FEDERAL HOUSING FINANCE BOARD

Sunshine Act Notice; Announcing an Open Meeting of the Board

Time and Date: 10 a.m., Wednesday, November 13, 2002.

Place: Board Room, Second Floor, Federal Housing Finance Board, 1777 F Street, NW., Washington, DC 20006.

Status: The entire meeting will be open to the public.

Matter to be Considered: • Approval of the 2003 Administrative and Non-Administrative Budget for the Financing Corporation.

• Amendment to the Federal Home Loan Bank of Cincinnati Capital Plan.

Contact Person for More Information: Elaine L. Baker, Secretary to the Board, (202) 408-2837.

Arnold Intrater,
General Counsel.

[FR Doc. 02-28692 Filed 11-6-02; 2:34 pm]

BILLING CODE 6725-01-P